FEDERAL COMMUNICATIONS COMMISSION

47 CFR Part 73

[DA 03-1124, MM Docket No. 01-104, RM-10103, RM-10323, and RM-10324]

Radio Broadcasting Services; Auburn, Birmingham, Camp Hill, Dadeville, Gardendale, Goodwater, Homewood, Jemison, Northport, Pine Level, Thomaston, and Tuscaloosa, AL

AGENCY: Federal Communications Commission.

ACTION: Final rule; reconsideration granted.

SUMMARY: This document grants a petition for reconsideration, reinstates, and conditionally grants two counterproposals subject to the outcome of an earlier proceeding. Originally, the Report and Order in this proceeding dismissed the two counterproposals because they relied on an effective but non-final action in an earlier rulemaking proceeding. See 67 FR 57203 (September 9, 2002). This document reverses that policy, finding that the counterproposals did not have to await final action in the earlier rulemaking proceeding. See also Supplemental Information.

DATES: Effective July 7, 2003.

FOR FURTHER INFORMATION CONTACT: Andrew J. Rhodes, Media Bureau, (202) 418-2180.

SUPPLEMENTARY INFORMATION: This is a synopsis of the Commission's Memorandum Opinion and Order, MM Docket 01-104, adopted May 16, 2003, and released May 20, 2003. The full text of this decision is available for inspection and copying during normal business hours in the FCC's Reference Information Center at Portals II, CY-A257, 445 12th Street, SW., Washington, DC. The complete text of this decision may also be purchased from the Commission's copy contractor, Qualex International, Portals ll, 445 12th Street, SW., Room CY-B402, Washington, DC 20554, telephone 202-863-2893, facsimile 202-863-2898, or via e-mail qualexint@aol.com.

In granting the first counterproposal, this document reallotted and changed the community of license for Station WLXY(FM), Channel 263C1 from Northport, Alabama, to Helena, Alabama, as a first local service, at reference coordinates 33-07-07 and 87-15-18. To prevent the removal of the sole local service in Northport, the document reallotted and changed the community of license of Station WTUG(FM), Channel 225C1, from Tuscaloosa to Northport. The reference coordinates for Channel 225C1 at Northport are 33-03-20 and 87-32-59.

In granting the second counterproposal, the document upgraded, reallotted, and changed the community of license for Station WODL(FM) from Channel 247A at Homewood, Alabama, to Channel 247C2 at Gardendale, Alabama The coordinates for Channel 247C2 at Gardendale are 33-34-55 and 86-56-46. To accommodate this action, the document made seven other changes to the FM Table of Allotments. First, the document substituted Channel 262A for Channel 247A at Dadeville, Alabama, at reference coordinates 32-52-58 and 85-49-16, and modified the license for Station WZLM(FM) accordingly. Second, the document substituted Channel 300A for Channel 247A at Orrville, Alabama, at a new site. The reference coordinates for Channel 300A at Orrville are 32-19-35 and 87-11-57. Third, the staff reallotted and changed the community of license for Station WSSY-FM, Channel 248A from Talladega, Alabama, to Goodwater, Alabama, at reference coordinates 33-02-22 and 86-00-21.

Fourth, the documented modified the reference coordinates for vacant and unapplied for Channel 248A, Pine Level, Alabama. The new reference coordinates for Channel 248A at Pine Level are 31-59-33 and 86-00-05. Fifth, the document reallotted and changed the community of license for Station WEZZ-FM, Channel 249A from Clanton, Alabama, to Jemison, Alabama, at reference coordinates of 32-56-23 and 86-46-11. Sixth, the document modified the reference coordinates for Station WAYI(FM), Channel 249A, Thomaston, Alabama, to 32-17-45 and 87-44-45. Seventh, to prevent the removal of the sole local service at Homewood, the document reallotted and changed the community of license for Station WBPT(FM), Channel 295C, from Birmingham to Homewood, Alabama, at reference coordinates of 33-29-19 and 86-45-78.

List of Subjects in 47 CFR Part 73

Radio, Radio broadcasting.

Part 73 of Title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Alabama, is amended by removing Channel 295C at Birmingham, by removing Clanton, Channel 249A, by removing Channel 247A and by adding Channel 262A at Dadeville, by removing Channel 247A and by adding Channel 295C at Homewood, by adding Gardendale, Channel 247C2, by adding Goodwater, Channel 248A, by adding Helena, Channel 263C1, by adding Jemison, Channel 249A, by removing Channel 263C1 and by adding Channel 225C1 at Northport, by removing Channel 247A and by adding Channel 300A at Orrville, by removing Channel 248A at Talladega, and by removing Channel 225C1 at Tuscaloosa.

Federal Communications Commission.
John A. Karousos,
Assistant Chief, Audio Division, Media Bureau.

[FR Doc. 03-14093 Filed 6-4-03; 8:45 am]

BILLING CODE 6712-01-P